ENVIRONMENTAL PROTECTION AGENCY

[FRL-6869-1]

Meeting of the Small Community Advisory Subcommittee

AGENCY: Environmental Protection Agency (EPA).

ACTION: Notice.

SUMMARY: The Small Community Advisory Subcommittee will meet on September 28-29, 2000, in Lincoln, NE.

The Small Community Advisory Subcommittee was established by the U.S. Environmental Protection Agency as a standing subcommittee of the Local Government Advisory Committee. The September meeting will focus on State—EPA relations as they are related to small communities and the federal regulatory process.

The Committee will hear comments from the public between 9:00 a.m. and 9:15 a.m. on September 28, 2000. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating will be on a first come, first serve basis.

DATES: The meeting will begin at 9:00 a.m. on Thursday, September 28th and conclude at 5:00 p.m. on the 29th.

ADDRESSES: The meetings will be held at the Cornhusker Hotel located at 333 South 13th Street, Lincoln, NE.

Requests for Minutes and other information can be obtained by writing the DFO at 1200 Pennsylvania Ave., NW (1306A), Washington, DC 20460.

FOR FURTHER INFORMATION CONTACT: The DFO for this Subcommittee is Steven Wilson. He is the point of contact for information concerning any Subcommittee matters and can be reached by calling (202) 564-3646.

Steven Wilson,
Designated Federal Officer, Small Community Advisory Subcommittee.

[FR Doc. 00-23654 Filed 9-13-00; 8:45 am]

BILLING CODE 6560-50-P